FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 9, 2019.

A. Federal Reserve Bank of Chicago (Colette A. Fried, Assistant Vice President) 230 South LaSalle Street, Chicago, Illinois 60690-1414:

1. David S. Albrecht and Steve D. Albrecht as co-trustees of the Dean L. Albrecht 2014 Trust, the Dean L. Albrecht 2014 Family Trust II FBO Abbey Albrecht, and the Dean L Albrecht 2014 Family Trust II FBO Alexis Albrecht, all of Norwalk, Iowa, as a group acting in concert to be added to the Albrecht family control group approved on January 2, 1996; to acquire voting shares of Albrecht Financial Services, Inc., and thereby indirectly acquire City State Bank, both of Norwalk, Iowa.

Board of Governors of the Federal Reserve System, March 20, 2019.
Yao-Chin Chao,
Assistant Secretary of the Board.

[FR Doc. 2019-05639 Filed 3-22-19; 8:45 am]

BILLING CODE 6210-01-P